FEDERAL COMMUNICATIONS COMMISSION

Notice of Public Information Collection(s) Being Submitted for Review and Approval to the Office of Management and Budget (OMB), Comments Requested

January 15, 2010.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a valid control number.

DATES: Written Paperwork Reduction Act (PRA) comments should be submitted on or before February 22, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov.). Include in the e-mail the OMB control number of the collection as shown in the SUPPLEMENTARY INFORMATION section below, or if there is no OMB control number, the Title as shown in the SUPPLEMENTARY INFORMATION section. If you are unable to submit your comments by e-mail, contact he person listed below to make alternate arrangements.

FOR FURTHER INFORMATION CONTACT: For additional information or copies of the information collection(s), contact Judith B. Herman at 202-418-0214 or via the Internet at Judith-B.Herman@fcc.gov.

SUPPLEMENTARY INFORMATION: The Commission is seeking emergency processing of this information collection by February 12, 2010.

OMB Control Number: 3060-XXXX.

Title: Revisions to Rules Authorizing the Operation of Low Power Auxiliary Stations (Wireless Microphones).

Form No.: N/A.

Type of Review: New collection.

Respondents: Business or other for-profit, not-for-profit institutions and State, local or Tribal government.

Number of Respondents: 7,200 respondents; 129,600 responses.

Estimated Time per Response: .25 hours (15 minutes)—.50 hours (30 minutes).

Frequency of Response: On occasion reporting requirement and third party disclosure requirement.

Obligation to Respond: Mandatory. Statutory authority for this information collection is contained in 47 U.S.C. sections 151, 152, 154(i), 154(j), 301, 302a, 303, 304, 307, 308, 309, 316, 332, 336, and 337.

Total Annual Burden: 32,925 hours.

Total Annual Cost: $1,625,000.

Privacy Act Impact Assessment: N/A.

Nature and Extent of Confidentiality: There is no need for confidentiality.

Needs and Uses: The Commission will submit this new information collection (IC) to the OMB under their emergency processing provisions in 5 CFR 1320.13. The Commission is requesting OMB approval by February 12, 2010 so that the information can go into effect as soon as possible.

The Commission is requesting OMB approval for notice, disclosure and labeling requirements to allow the Commission to implement important disclosure requirements in order to clear the 700 MHz band of wireless microphones and provide them a home in the core TV spectrum, where many wireless microphones are already operating.

First, it is essential for the early clearing mechanism to be available as soon as possible so that public safety and commercial licensees in the 700 MHz band can avoid harmful interference from wireless microphone users still operating in that band. The potential for public harm is particularly apparent in the case of public safety licensees such as police and fire departments. Some public safety licensees are already operating in the 700 MHz band, and more are expected to commence operation soon. Interference from wireless microphones could affect the ability of these officials to communicate during an emergency and therefore could create a serious threat to public health and safety.

Second, the point-of-sale disclosure requirement is also essential for a successful transition of wireless microphones out of the 700 MHz band. The Commission anticipates that many wireless microphone users currently operating in the 700 MHz band will have to purchase or lease new equipment capable of operating in the core TV spectrum. The point-of-sale disclosure requirement will help these consumers make an educated decision as they obtain new microphones, and it will help them operate in the core TV spectrum without causing interference to other services in that spectrum.

Third, a label on 700 MHz band wireless microphones bound for export will help to ensure that these wireless microphones do not continue to be made available for use in the United States, in contravention of our efforts to remove them from the band.

The effective date proposed by the Commission provides for these early clearing and consumer disclosure measures to commence as early as possible. Due to the limited period of time for which two of the requirements (the early clearing mechanism and the point-of-sale disclosure requirements) will be in effect, and the urgent need to ensure that wireless microphone users transition out of the 700 MHz band, we find there is good cause to obtain emergency OMB approval for these requirements, so that the requirements may take effect as soon as practicable thereafter.

Marlene F. Dortch,
Secretary, Federal Communications Commission.

[FR Doc. 2010-1152 Filed 1-21-10; 8:45 am]

BILLING CODE 6712-01-P